FEDERAL ELECTION COMMISSION

Sunshine Act Meeting Notices

AGENCY: Federal Election Commission.

PREVIOUSLY ANNOUNCED DATE AND TIME: Thursday, March 20, 2003, 10 a.m., meeting open to the public. This meeting was cancelled.

PREVIOUSLY ANNOUNCED DATE AND TIME: Thursday, March 27, 2003, 10 a.m., meeting open to the public. This meeting was cancelled.

DATE AND TIME: Tuesday, March 25, 2003, at 10 a.m.

PLACE: 999 E Street, NW., Washington, DC.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

FOR FURTHER INFORMATION CONTACT: Mr. Ron Harris, Press Officer, Telephone: (202) 694-1220.

Mary W. Dove,
Secretary of the Commission.

[FR Doc. 03-6868 Filed 3-18-03; 3:15 pm]

BILLING CODE 6715-01-M